DEPARTMENT OF THE INTERIOR

Fish and Wildlife Service

Letters of Authorization To Take Marine Mammals

AGENCY: Fish and Wildlife Service, Interior.

ACTION: Notice of issuance.

SUMMARY: In accordance with the Marine Mammal Protection Act of 1972 (MMPA) as amended, notice is hereby given that Letters of Authorization to take polar bears incidental to oil and gas industry exploration activities in the Beaufort Sea and adjacent northern coast of Alaska have been issued.

FOR FURTHER INFORMATION CONTACT: Mr. Craig Perham at the Fish and Wildlife Service, Marine Mammals Management Office, 1011 East Tudor Road, Anchorage, Alaska 99503, (800) 362-5148 or (907) 786-3810.

SUPPLEMENTARY INFORMATION: A Letter of Authorization has been issued to the following companies in accordance with Fish and Wildlife Service Federal Rules and Regulations “Marine Mammals; Incidental Take During Specified Activities (68 FR 66744; November 28, 2003)” under section 101(a)(5)(A) of the MMPA and the Fish and Wildlife Service implementing regulations at 50 CFR 18.27(f)(3):

Company | Activity | Location | Date issued
ConocoPhillips Alaska, Inc | Production | Kuparuk, Alpine | Mar. 5, 2004.
Kerr-McGee Oil and Gas Corp | Exploration | NW Milne | Feb. 6, 2004.
ExxonMobil Prod. Co | Development | Pt. Storkersen #1 | Feb. 10, 2004.
ExxonMobil Prod. Co | Development | Canning River A-1 | Feb. 10, 2004.
Chevron U.S.A. Inc | Development | W. Kavik Unit #1 | Feb. 12, 2004.
Western Geco | Development | Lonely | Mar. 12, 2004.
ConocoPhillips Alaska, Inc | Development | Gwydyr Bay State #2 | Feb. 27, 2004.
U.S. Bureau of Land Management | Development | Umiat Legacy Well | Mar. 22, 2004.

Dated: June 16, 2004.
Gary Edwards,
Acting Regional Director.

[FR Doc. 04-14802 Filed 6-29-04; 8:45 am]

BILLING CODE 4310-55-P